DEPARTMENT OF ENERGY

Federal Energy Regulatory Commission

Combined Notice of Filings

Take notice that the Commission has received the following Natural Gas Pipeline Rate and Refund Report filings:

Filings Instituting Proceedings

Docket Numbers: RP13-692-000.

Applicants: Natural Gas Pipeline Company of America.

Description: Negotiated Rate—Tenaska LPS-RO to be effective 4/1/2013.

Filed Date: 3/19/13.

Accession Number: 20130319-5086.

Comments Due: 5 p.m. ET 4/1/13.

Docket Numbers: RP13-693-000.

Applicants: Northern Border Pipeline Company.

Description: Compressor Usage Surcharge 2013 to be effective 5/1/2013.

Filed Date: 3/20/13.

Accession Number: 20130320-5031.

Comments Due: 5 p.m. ET 4/1/13.

Docket Numbers: RP13-694-000.

Applicants: Horizon Pipeline Company, L.L.C.

Description: Penalty Revenue Crediting Report of Horizon Pipeline Company, L.L.C.

Filed Date: 3/20/13.

Accession Number: 20130320-5049.

Comments Due: 5 p.m. ET 4/1/13.

Docket Numbers: RP13-695-000.

Applicants: CenterPoint Energy Gas Transmission Comp.

Description: CEGT LLC—Revenue Crediting effective May 1, 2013 to be effective 5/1/2013.

Filed Date: 3/20/13.

Accession Number: 20130320-5070.

Comments Due: 5 p.m. ET 4/1/13.

Docket Numbers: RP13-696-000.

Applicants: East Tennessee Natural Gas, LLC, Murray I and II LLC, Oglethorpe Power Corporation.

Description: East Tennessee Natural Gas, LLC, et al. submits Joint Petition for Temporary Waivers, et al.

Filed Date: 3/20/13.

Accession Number: 20130320-5093.

Comments Due: 5 p.m. ET 3/26/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-527-001.

Applicants: Boardwalk Storage Company, LLC.

Description: Correction Compliance Filing to be effective 3/3/2013.

Filed Date: 3/20/13.

Accession Number: 20130320-5074.

Comments Due: 5 p.m. ET 3/27/13.

Docket Numbers: RP13-683-001.

Applicants: Columbia Gulf Transmission, LLC.

Description: Non-Conforming Remediation Errata to be effective 4/15/2013.

Filed Date: 3/20/13.

Accession Number: 20130320-5089.

Comments Due: 5 p.m. ET 4/1/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 21, 2013.
Nathaniel J. Davis, Sr.,
Deputy Secretary.

[FR Doc. 2013-07218 Filed 3-27-13; 8:45 am]

BILLING CODE 6717-01-P